DEPARTMENT OF THE TREASURY

Submission for OMB Review; Comment Request

May 1, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 5, 2000 to be assured of consideration.

U.S. Customs Service (CUS)

OMB Number: 1515-0157.

Form Number: None.

Type of Review: Extension.

Title: Exportation of Self-Propelled Vehicles.

Description: The Exportation of Self-Propelled Vehicles requires the submission of documents verifying vehicle ownership of exporters for exportation of vehicles in the United States.

Respondents: Business or other for-profit, Individuals or households, Not-for-profit institutions.

Estimated Number of Respondents: 600,000.

Estimated Burden Hours Per Respondent: 10 minutes.

Frequency of Response: On occasion.

Estimated Total Reporting Burden: 100,000 hours.

OMB Number: 1515-0189.

Form Number: None.

Type of Review: Extension.

Title: Petroleum Refineries in Foreign Trade Subzones.

Description: This recordkeeping requirement provides special procedures for Petroleum Refineries in foreign Trade Subzones and requirements governing the operations of crude petroleum and refineries approved as foreign trade zones.

Respondents: Business or other for-profit, Not-for-profit institutions.

Estimated Number of Recordkeepers: 18.

Estimated Burden Hours Per Recordkeeper: 732 hours.

Estimated Total Recordkeeping Burden: 13,176 hours.

Clearance Officer: J. Edgar Nichols (202) 927-1426, U.S. Customs Service, Printing and Records Management Branch, Ronald Reagan Building, 1300 Pennsylvania Avenue, NW, Room 3.2.C, Washington, DC 20229.

OMB Reviewer: Alexander T. Hunt (202) 395-7860, Office of Management and Budget, Room 10202, New Executive Office Building, Washington, DC 20503.

Lois K. Holland,
Departmental Reports Management Officer.

[FR Doc. 00-11299 Filed 5-4-00; 8:45 am]

BILLING CODE 4820-02-P